DEPARTMENT OF ENERGY

Federal Energy Regulatory Commission

Combined Notice of Filings

Take notice that the Commission has received the following Natural Gas Pipeline Rate and Refund Report filings:

Docket Numbers: RP12-302-000.

Applicants: Transcontinental Gas Pipe Line Company,

Description: Revise Sections 2.4 and 2.5 (PS and ACQ) of Rate Schedule FT to be effective 2/11/2012.

Filed Date: 1/11/12.

Accession Number: 20120111-5115.

Comments Due: 5 p.m. ET 1/23/12.

Docket Numbers: RP12-303-000.

Applicants: Midcontinent Express Pipeline LLC.

Description: Annual Report of Operational Purchases and Sales of Midcontinent Express Pipeline LLC.

Filed Date: 1/11/12.

Accession Number: 20120111-5129.

Comments Due: 5 p.m. ET 1/23/12.

Docket Numbers: RP12-304-000.

Applicants: Dominion Transmission, Inc.

Description: DTI—January 11, 2012—Nonconforming Service Agreement to be effective 1/15/2012.

Filed Date: 1/11/12.

Accession Number: 20120111-5136.

Comments Due: 5 p.m. ET 1/23/12.

Docket Numbers: RP12-305-000

Applicants: Discovery Gas Transmission LLC.

Description: Footnote 4 Removal to be effective 1/1/2012.

Filed Date: 1/11/12.

Accession Number: 20120111-5175.

Comments Due: 5 p.m. ET 1/23/12.

Docket Numbers: RP12-306-000.

Applicants: Equitrans, L.P.

Description: Non-Conforming Agreement Filing—GeoMet Operating Company, Inc. to be effective 1/1/2012.

Filed Date: 1/11/12.

Accession Number: 20120111-5225.

Comments Due: 5 p.m. ET 1/23/12.

Docket Numbers: RP12-307-000

Applicants: Texas Eastern Transmission, LP.

Description: Submits tariff filing per 154.204: Duke Energy Indiana Negotiated Rate to be effective 1/12/2012.

Filed Date: 1/12/12.

Accession Number: 20120112-5055.

Comments Due: 5 p.m. ET 1/24/12.

Docket Numbers: CP12-42-000.

Applicants: Liberty Energy (Midstates) Corporation

Description: Application for Limited Jurisdiction Blanket Certificate, and Approval of Rates.

Filed Date: 1/4/12.

Accession Number: 20120104-5143.

Comments Due: 5 p.m. ET 12/25/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 12, 2012.
Nathaniel J. Davis, Sr.,
Deputy Secretary.

[FR Doc. 2012-1042 Filed 1-19-12; 8:45 am]

BILLING CODE 6717-01-P